POSTAL REGULATORY COMMISSION

[Docket Nos. MC2025-656 and K2025-655; MC2025-657 and K2025-656; MC2025-658 and K2025-657; MC2025-659 and K2025-658; MC2025-660 and K2025-659; MC2025-661 and K2025-660; MC2025-662 and K2025-661; MC2025-673 and K2025-672; MC2025-674 and K2025-673; MC2025-675 and K2025-674; MC2025-676 and K2025-675; MC2025-677 and K2025-676; MC2025-678 and K2025-677; MC2025-679 and K2025-678; MC2025-680 and K2025-679; MC2025-681 and K2025-680; MC2025-682 and K2025-681; MC2025-683 and K2025-682; MC2025-684 and K2025-683; MC2025-685 and K2025-684; MC2025-686 and K2025-685; MC2025-687 and K2025-686; MC2025-688 and K2025-687; MC2025-689 and K2025-688; MC2025-690 and K2025-689]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: December 16, 2024.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (https://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: MC2025-656 and K2025-655; Filing Title: USPS Request to Add Priority Mail & USPS Ground Advantage Contract 513 to the Competitive Product List and Notice of Filing Materials Under Seal; Filing Acceptance Date: December 6, 2024; Filing Authority: 39 U.S.C. 3642, 39 CFR 3035.105, and 39 CFR 3041.310; Public Representative: Samuel Robinson; Comments Due: December 16, 2024.

2. Docket No(s).: MC2025-657 and K2025-656; Filing Title: USPS Request to Add Priority Mail & USPS Ground Advantage Contract 514 to the Competitive Product List and Notice of Filing Materials Under Seal; Filing Acceptance Date: December 6, 2024; Filing Authority: 39 U.S.C. 3642, 39 CFR 3035.105, and 39 CFR 3041.310; Public Representative: Samuel Robinson; Comments Due: December 16, 2024.

3. Docket No(s).: MC2025-658 and K2025-657; Filing Title: USPS Request to Add Priority Mail Express, Priority Mail & USPS Ground Advantage Contract 922 to the Competitive Product List and Notice of Filing Materials Under Seal; Filing Acceptance Date: December 6, 2024; Filing Authority: 39 U.S.C. 3642, 39 CFR 3035.105, and 39 CFR 3041.310; Public Representative: Gregory Stanton; Comments Due: December 16, 2024.

4. Docket No(s).: MC2025-659 and K2025-658; Filing Title: USPS Request to Add Priority Mail Express, Priority Mail & USPS Ground Advantage Contract 923 to the Competitive Product List and Notice of Filing Materials Under Seal; Filing Acceptance Date: December 6, 2024; Filing Authority: 39 U.S.C. 3642, 39 CFR 3035.105, and 39 CFR 3041.310; Public Representative: Gregory Stanton; Comments Due: December 16, 2024.

5. Docket No(s).: MC2025-660 and K2025-659; Filing Title: USPS Request to Add Priority Mail Express, Priority Mail & USPS Ground Advantage Contract 924 to the Competitive Product List and Notice of Filing Materials Under Seal; Filing Acceptance Date: December 6, 2024; Filing Authority: 39 U.S.C. 3642, 39 CFR 3035.105, and 39 CFR 3041.310; Public Representative: Gregory Stanton; Comments Due: December 16, 2024.

6. Docket No(s).: MC2025-661 and K2025-660; Filing Title: USPS Request to Add Priority Mail & USPS Ground Advantage Contract 515 to the Competitive Product List and Notice of Filing Materials Under Seal; Filing Acceptance Date: December 6, 2024; Filing Authority: 39 U.S.C. 3642, 39 CFR 3035.105, and 39 CFR 3041.310; Public Representative: Christopher Mohr; Comments Due: December 16, 2024.

7. Docket No(s).: MC2025-662 and K2025-661; Filing Title: USPS Request to Add Priority Mail Express, Priority Mail & USPS Ground Advantage Contract 925 to the Competitive Product List and Notice of Filing Materials Under Seal; Filing Acceptance Date: December 6, 2024; Filing Authority: 39 U.S.C. 3642, 39 CFR 3035.105, and 39 CFR 3041.310; Public Representative: Gregory Stanton; Comments Due: December 16, 2024.

8. Docket No(s).: MC2025-673 and K2025-672; Filing Title: USPS Request to Add Priority Mail & USPS Ground Advantage Contract 511 to the Competitive Product List and Notice of Filing Materials Under Seal; Filing Acceptance Date: December 6, 2024; Filing Authority: 39 U.S.C. 3642, 39 CFR 3035.105, and 39 CFR 3041.310; Public Representative: Christopher Mohr; Comments Due: December 16, 2024.

9. Docket No(s).: MC2025-674 and K2025-673; Filing Title: USPS Request to Add Priority Mail Express, Priority Mail & USPS Ground Advantage Contract 917 to the Competitive Product List and Notice of Filing Materials Under Seal; Filing Acceptance Date: December 6, 2024; Filing Authority: 39 U.S.C. 3642, 39 CFR 3035.105, and 39 CFR 3041.310; Public Representative: Christopher Mohr; Comments Due: December 16, 2024.

10. Docket No(s).: MC2025-675 and K2025-674; Filing Title: USPS Request to Add Priority Mail Express, Priority Mail & USPS Ground Advantage Contract 935 to the Competitive Product List and Notice of Filing Materials Under Seal; Filing Acceptance Date: December 6, 2024; Filing Authority: 39 U.S.C. 3642, 39 CFR 3035.105, and 39 CFR 3041.310; Public Representative: Christopher Mohr; Comments Due: December 16, 2024.

11. Docket No(s).: MC2025-676 and K2025-675; Filing Title: USPS Request to Add Priority Mail & USPS Ground Advantage Contract 517 to the Competitive Product List and Notice of Filing Materials Under Seal; Filing Acceptance Date: December 6, 2024; Filing Authority: 39 U.S.C. 3642, 39 CFR 3035.105, and 39 CFR 3041.310; Public Representative: Jennaca Upperman; Comments Due: December 16, 2024.

12. Docket No(s).: MC2025-677 and K2025-676; Filing Title: USPS Request to Add Priority Mail Express, Priority Mail & USPS Ground Advantage Contract 936 to the Competitive Product List and Notice of Filing Materials Under Seal; Filing Acceptance Date: December 6, 2024; Filing Authority: 39 U.S.C. 3642, 39 CFR 3035.105, and 39 CFR 3041.310; Public Representative: Jennaca Upperman; Comments Due: December 16, 2024.

13. Docket No(s).: MC2025-678 and K2025-677; Filing Title: USPS Request to Add Priority Mail Express, Priority Mail & USPS Ground Advantage Contract 937 to the Competitive Product List and Notice of Filing Materials Under Seal; Filing Acceptance Date: December 6, 2024; Filing Authority: 39 U.S.C. 3642, 39 CFR 3035.105, and 39 CFR 3041.310; Public Representative: Elsie Lee-Robbins; Comments Due: December 16, 2024.

14. Docket No(s).: MC2025-679 and K2025-678; Filing Title: USPS Request to Add Priority Mail & USPS Ground Advantage Contract 518 to the Competitive Product List and Notice of Filing Materials Under Seal; Filing Acceptance Date: December 6, 2024; Filing Authority: 39 U.S.C. 3642, 39 CFR 3035.105, and 39 CFR 3041.310; Public Representative: Elsie Lee-Robbins; Comments Due: December 16, 2024.

15. Docket No(s).: MC2025-680 and K2025-679; Filing Title: USPS Request to Add Priority Mail Express, Priority Mail & USPS Ground Advantage Contract 938 to the Competitive Product List and Notice of Filing Materials Under Seal; Filing Acceptance Date: December 6, 2024; Filing Authority: 39 U.S.C. 3642, 39 CFR 3035.105, and 39 CFR 3041.310; Public Representative: Elsie Lee-Robbins; Comments Due: December 16, 2024.

16. Docket No(s).: MC2025-681 and K2025-680; Filing Title: USPS Request to Add Priority Mail Express, Priority Mail & USPS Ground Advantage Contract 939 to the Competitive Product List and Notice of Filing Materials Under Seal; Filing Acceptance Date: December 6, 2024; Filing Authority: 39 U.S.C. 3642, 39 CFR 3035.105, and 39 CFR 3041.310; Public Representative: Almaroof Agoro; Comments Due: December 16, 2024.

17. Docket No(s).: MC2025-682 and K2025-681; Filing Title: USPS Request to Add Priority Mail Express, Priority Mail & USPS Ground Advantage Contract 940 to the Competitive Product List and Notice of Filing Materials Under Seal; Filing Acceptance Date: December 6, 2024; Filing Authority: 39 U.S.C. 3642, 39 CFR 3035.105, and 39 CFR 3041.310; Public Representative: Almaroof Agoro; Comments Due: December 16, 2024.

18. Docket No(s).: MC2025-683 and K2025-682; Filing Title: USPS Request to Add Priority Mail Express, Priority Mail & USPS Ground Advantage Contract 941 to the Competitive Product List and Notice of Filing Materials Under Seal; Filing Acceptance Date: December 6, 2024; Filing Authority: 39 U.S.C. 3642, 39 CFR 3035.105, and 39 CFR 3041.310; Public Representative: Maxine Bradley; Comments Due: December 16, 2024.

19. Docket No(s).: MC2025-684 and K2025-683; Filing Title: USPS Request to Add Priority Mail Express, Priority Mail & USPS Ground Advantage Contract 942 to the Competitive Product List and Notice of Filing Materials Under Seal; Filing Acceptance Date: December 6, 2024; Filing Authority: 39 U.S.C. 3642, 39 CFR 3035.105, and 39 CFR 3041.310; Public Representative: Maxine Bradley; Comments Due: December 16, 2024.

20. Docket No(s).: MC2025-685 and K2025-684; Filing Title: USPS Request to Add Priority Mail Express, Priority Mail & USPS Ground Advantage Contract 943 to the Competitive Product List and Notice of Filing Materials Under Seal; Filing Acceptance Date: December 6, 2024; Filing Authority: 39 U.S.C. 3642, 39 CFR 3035.105, and 39 CFR 3041.310; Public Representative: Maxine Bradley; Comments Due: December 16, 2024.

21. Docket No(s).: MC2025-686 and K2025-685; Filing Title: USPS Request to Add Priority Mail Express, Priority Mail & USPS Ground Advantage Contract 944 to the Competitive Product List and Notice of Filing Materials Under Seal; Filing Acceptance Date: December 6, 2024; Filing Authority: 39 U.S.C. 3642, 39 CFR 3035.105, and 39 CFR 3041.310; Public Representative: Samuel Robinson; Comments Due: December 16, 2024.

22. Docket No(s).: MC2025-687 and K2025-686; Filing Title: USPS Request to Add Priority Mail Express, Prioirty Mail & USPS Ground Advantage Contract 945 to the Competitive Product List and Notice of Filing Materials Under Seal; Filing Acceptance Date: December 6, 2024; Filing Authority: 39 U.S.C. 3642, 39 CFR 3035.105, and 39 CFR 3041.310; Public Representative: Samuel Robinson; Comments Due: December 16, 2024.

23. Docket No(s).: MC2025-688 and K2025-687; Filing Title: USPS Request to Add Priority Mail Express, Priority Mail & USPS Ground Advantage Contract 946 to the Competitive Product List and Notice of Filing Materials Under Seal; Filing Acceptance Date: December 6, 2024; Filing Authority: 39 U.S.C. 3642, 39 CFR 3035.105, and 39 CFR 3041.310; Public Representative: Samuel Robinson; Comments Due: December 16, 2024.

24. Docket No(s).: MC2025-689 and K2025-688; Filing Title: USPS Request to Add Priority Mail Express, Priority Mail & USPS Ground Advantage Contract 947 to the Competitive Product List and Notice of Filing Materials Under Seal; Filing Acceptance Date: December 6, 2024; Filing Authority: 39 U.S.C. 3642, 39 CFR 3035.105, and 39 CFR 3041.310; Public Representative: Almaroof Agoro; Comments Due: December 16, 2024.

25. Docket No(s).: MC2025-690 and K2025-689; Filing Title: USPS Request to Add Priority Mail Express, Priority Mail & USPS Ground Advantage Contract 948 to the Competitive Product List and Notice of Filing Materials Under Seal; Filing Acceptance Date: December 6, 2024; Filing Authority: 39 U.S.C. 3642, 39 CFR 3035.105, and 39 CFR 3041.310; Public Representative: Almaroof Agoro; Comments Due: December 16, 2024.

III. Summary Proceeding(s)

None. See Section II for public proceedings.

This Notice will be published in the Federal Register.

Erica A. Barker,
Secretary.

[FR Doc. 2024-29307 Filed 12-12-24; 8:45 am]

BILLING CODE 7710-FW-P